DEPARTMENT OF COMMERCE

National Oceanic and Atmospheric Administration

50 CFR Part 229

[Docket No. 150122067-5229-01]

RIN 0648-BE83

Taking of Marine Mammals Incidental to Commercial Fishing Operations; Atlantic Large Whale Take Reduction Plan Regulations

AGENCY: National Marine Fisheries Service (NMFS), National Oceanic and Atmospheric Administration (NOAA), Commerce.

ACTION: Proposed rule; request for comments.

SUMMARY: NMFS proposes to amend the regulations implementing the Atlantic Large Whale Take Reduction Plan. This action proposes to change the minimum number of traps per trawl to allow fishing with a single trap in certain Massachusetts and Rhode Island state waters; and proposes to modify the requirement to use one endline on trawls within certain areas in Massachusetts state waters. NMFS also proposes a ¼ mile buffer in waters surrounding certain islands in Maine to allow fishing with a single trap. In addition, NMFS proposes additional gear marking requirements for those waters allowing single traps as well as two new high use areas for humpback whales (Megaptera novaeangliae) and North Atlantic right whales (Eubalaena glacialis).

DATES: Submit comments on or before April 20, 2015.

ADDRESSES: You may submit comments on this document, identified by NOAA-NMFS-2015-0127, by either of the following methods:

• Electronic Submission: Submit all electronic public comments via the Federal e-Rulemaking Portal

1. Go to www.regulations.gov/#!docketDetail;D=NOAA-NMFS-2015-0127,

2. Click the “Comment Now!” icon, complete the required fields,

3. Enter or attach your comments.

• Mail: Submit written comments to Kim Damon-Randall, Assistant Regional Administrator for Protected Resources, NMFS Greater Atlantic Region, 55 Great Republic Dr., Gloucester, MA 01930, Attn: Large Whale Proposed Rule.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Kate Swails, NMFS Greater Atlantic Regional Fisheries Office, 978-282-8481, Kate.Swails@noaa.gov; or, Kristy Long, NMFS Office of Protected Resources, 206-526-4792, Kristy.Long@noaa.gov.

SUPPLEMENTARY INFORMATION:

Electronic Access

Several of the background documents for the Plan and the take reduction planning process can be downloaded from the Plan Web site at http://www.greateratlantic.fisheries.noaa.gov/protected/whaletrp/index.html. The complete text of the regulations implementing the Plan can be found in the Code of Federal Regulations (CFR) at 50 CFR 229.32 or downloaded from the Web site, along with a guide to the regulations. The draft Environmental Assessment for this action is also available online.

Background

NMFS published an amendment to the Atlantic Large Whale Take Reduction Plan (Plan) on June 27, 2014 (79 FR 36586) to address large whale entanglement risks associated with vertical line (or buoy lines) from commercial trap/pot fisheries. This amendment included gear modifications, gear setting requirements, a seasonal closure (Massachusetts Restricted Area) and gear marking for both the trap/pot and the gillnet fisheries.

In consultation with the Atlantic Large Whale Take Reduction Team (Team), we developed protocols for considering modifications or exemptions to the regulations implementing the Plan. Following these protocols, on August 18, 2014, the Massachusetts Division of Marine Fisheries (DMF) submitted a proposal to modify the Massachusetts Bay Restricted Area and exempted several areas from the gear setting requirements to address safety and economic concerns raised by their industry members.

The DMF proposal adequately addressed the protocols and criteria established by the Team for considering modifications or exemptions to the Plan's regulations enabling us to consult with the Team. We decided to address the modifications to the Massachusetts Restricted Area and the exemption of the minimum number of traps per trawl requirements separately, beginning with the Massachusetts Restricted Area. After discussions with the Team, NMFS published an amendment to the Plan on December 12, 2014 (79 FR 73848) changing the timing and size of the Massachusetts Restricted Area.

Along with the DMF proposal we also received proposals from other state partners requesting certain waters be exempt from the minimum number of traps per trawl requirements due to safety concerns. The conservation members of the Team also submitted a proposal in an effort to offset this potential increase in vertical lines should NMFS approve the proposed state exemptions. NMFS convened the team in January 2015 to discuss these proposals. At the conclusion of the January meeting, the Team, by near consensus, recommended that we amend the Plan as proposed by the states. The Team also recommended that the current gear marking scheme be updated to include unique marks for those fishing singles in the proposed exempted areas and a unique mark for both gillnets and trap/pots fished in Jeffreys Ledge and Jordan Basin. This recommendation forms the basis for the proposed alternative described below.

Changes Proposed to the Plan for Trap/Pot Gear

This action proposes to exempt Rhode Island state waters and portions of Massachusetts state waters from the minimum number of traps per trawl requirement and allow singles to be fished in certain state waters (see Figures 1 and 2, respectively). This exemption is based on safety and financial concerns raised by the industry. In addition, in Rhode Island state waters and portions of Massachusetts state waters (particularly in Southern Massachusetts waters) the co-occurrence of fishing effort and whale distribution is minimal. According to DMF along the Outer Cape there are dynamic tides and featureless substrate that dictate the use of single traps in this area. Massachusetts also has a student lobster permit that allows for permit holders to fish alone and with small boats. Single traps are used in this fishery and other inshore waters as a matter of safety.

In addition, those fishing in all Massachusetts state waters would be required to have one endline for trawls less than and equal to three traps. The current requirement of one endline for trawls less than or equal to five traps remains in place in all other management areas. Larger trawls (i.e., > 5 traps/pots) will not be required to have only one endline.

An exemption from the minimum number of traps per trawl requirement is also proposed for a ¼ mile buffer in waters surrounding the following islands in Maine—Matinicus Island Group (Metinic, Small Green, Large Green, Seal, and Wooden Ball) and Isle of Shoals Island Group (Duck, Appledore, Cedar, and Smuttynose).

Boats within this ¼ mile buffer would be allowed to continue fishing single traps rather than multiple trap trawls due to safety issues since these waters are generally less than 30 fathoms deep with rocky edges and boats fishing close to shore areas are usually small. A similar exemption for the inhabited islands of Monhegan, Matinicus, and Ragged Islands was established in the June 2014 rule. The proposed islands in this rule have the same bottom habitat as the previously exempt islands and many residents from many island communities fish around these islands. Similarly, the New Hampshire side of the Isle of Shoals group was also exempt from the minimum number of traps per trawl requirement in the June 2014 rule. Allowing the islands in the chain that fall on the Maine side of the border to have the same exemption would provide parity to fishermen using islands on both sides of the border. Maine Department of Marine Resources (ME DMR) estimates that the fishing effort within the proposed buffer areas is small (0.3% of total vertical lines in the Northeast), consists of around 20 fishermen and has peak use in the summer months. In addition, ME DMR is pursuing funding for aerial surveys that would determine the use of marine mammals in these coastal areas as well as document the gear density.

Changes Proposed to the Plan for Gear Marking

This action proposes to implement a gear marking scheme that builds off the current color combinations and the size and frequency of the current gear marking requirements. In an effort to learn if entanglements occur in these newly exempted areas, this action proposes to add a unique gear mark to those single vertical lines fished in the exempted areas of Rhode Island, Massachusetts, and Matinicus Island Group, Maine. Also, this action proposes unique trap/pot and gillnet gear marking in two important high use areas for both humpback and right whales—Jeffreys Ledge (Figure 3) and Jordan Basin (Figure 4). The mark must equal 12-inches (30.5 cm) in length and buoy lines must be marked three times (top, middle, bottom) with the appropriate unique color combination for that area.

NMFS proposes a phased-in implementation of the new gear marking. Industry would have 30 days from publication of the final rule to mark gear fished in the newly exempted areas and 90 days from publication of the final rule to mark gear in Jeffreys Ledge and Jordan Basin areas.

Classification

This proposed rule has been determined to be not significant for the purposes of Executive Order 12866. This proposed rule contains collection of information requirements subject to the Paperwork Reduction Act (PRA), specifically, the marking of fishing gear. The collection of information requirement was approved by OMB under control number (0648-0364). Public comment is sought regarding whether this proposed collection of information is necessary for the proper performance and function of the agency, including: The practical utility of the information; the accuracy of the burden estimate; the opportunities to enhance the quality, utility, and clarity of the information to be collected; and the ways to minimize the burden of the collection of information, including the use of automated collection techniques or other forms of information technology. Send comments regarding this burden estimate, or any other aspect of this data collection, including suggestions for reducing the burden, to NMFS (see ADDRESSES) and by email to OIRA_Submission@omb.eop.gov, or fax to (202) 395-7285.

This revision to the collection of information requirement applies to a total of 399 vessels. The estimated number of vessels affected by the overall gear marking provisions in the Plan is 4,008. The estimated number of those vessels affected only by the proposed amendment is 399. Model vessel types were developed for gillnet fisheries, lobster trap/pot fisheries, and other trap/pot fisheries. Total burden hours for all affected vessels in the Plan are 35,571 hours over three years or 11,857 hours per year. Total cost burden for all affected vessels in the Plan is $24,758 over three years or $8,253 per year. The total cost burden for those vessels affected by the proposed amendment is $3,450 over three years or $1,150 per year. For more information, please see the PRA submission associated with this rulemaking.

Notwithstanding any other provision of the law, no person is required to respond to, nor shall any person be subject to a penalty for failure to comply with, a collection of information subject to the requirements of the PRA, unless that collection of information displays a currently valid Office of Management and Budget (OMB) Control Number.

As required by the Regulatory Flexibility Act, NMFS prepared an initial regulatory flexibility analysis (IRFA) for this proposed rule; a summary of the IRFA follows.

A description of the reasons why this action is being considered, its objectives, and the legal basis for this proposed action can be found in the Summary section and earlier in the Supplementary Information section of this proposed rule, and are not repeated here. This proposed rule would not duplicate, overlap, or conflict with any other federal rules.

The small entities affected by this proposed rule are commercial gillnet and trap/pot fishermen. The geographic range of the proposed rule is the Northeast Atlantic waters. By changing the minimum number of traps per trawl requirement to allow singles, in the lobster trap/pot fishery, there are potentially 182 vessels that would be affected. Additionally, in the other trap/pot fisheries, there are potentially 123 vessels that would be affected. All vessels are assumed to be small entities within the meaning of the Regulatory Flexibility Act.

Alternatives were evaluated using model vessels, each of which represents a group of vessels that share similar operating characteristics and would face similar requirements under a given regulatory alternative. Both an upper and lower bound of annual economic savings for lobster and other trap/pot were analyzed. A summary of analysis describing the potential range of savings resulting from allowing singles to be fished follows:

1. NMFS considered a “no action” or status quo alternative (Alternative 1) that would result in no changes to the current measures under the Plan and, as such, would result in no additional economic effects on the fishing industry.

2. Alternative 2 would modify the Plan by allowing the use of single traps in Rhode Island state waters, in most Massachusetts state waters, and some waters around Maine Islands. This change would constitute an exemption to the minimum two-trap-per-trawl requirement specified for these areas under the 2014 vertical line rulemaking. Those who until now have fished singles in these areas would avoid the costs associated with converting their gear from singles to doubles, and would also avoid other possible costs, such as a loss in revenue due to a reduction in catch. The proposed action also revises gear marking requirements that would apply to vessels fishing in waters that would be exempt from trawling requirements, as well as to vessels fishing in two additional regions (Jordan Basin and Jeffreys Ledge). The changes would require the use of colors that would differentiate gear set in these areas from gear fished in other waters. NMFS has determined, however, that the marking requirements would introduce minimal additional burden for the affected vessels; thus, a substantial increase in compliance costs is unlikely. The proposed rule does not include any other reporting, recordkeeping, or compliance requirements.

Overall, the economic impacts of the preferred alternative results in a vessel cost savings that would equal or range from $163,200 to $345,700 for lobster trap/pot vessels and $257,000 to $512,500 for other trap/pot vessels when compared to the no action alternative, resulting in a largely positive impact.

NMFS has determined that this action is consistent to the maximum extent practicable with the approved coastal management programs of Massachusetts. This determination was submitted for review by the responsible state agency under section 307 of the Coastal Zone Management Act.

This proposed rule contains policies with federalism implications as that term is defined in Executive Order 13132. Accordingly, the Assistant Secretary for Legislative and Intergovernmental Affairs will provide notice of the proposed action to the appropriate official(s) of affected state, local, and/or tribal governments.

BILLING CODE 3510-22-P

BILLING CODE 3510-22-C

List of Subjects in 50 CFR Part 229

Administrative practice and procedure, Confidential business information, Fisheries, Marine mammals, Reporting and recordkeeping requirements.

Dated: March 12, 2015.
Samuel D. Rauch III,
Deputy Assistant Administrator for Regulatory Programs, National Marine Fisheries Service.

For the reasons set out in the preamble, 50 CFR part 229 is proposed to be amended to read as follows:

PART 229—AUTHORIZATION FOR COMMERCIAL FISHERIES UNDER THE MARINE MAMMAL PROTECTION ACT OF 1972

1. The authority citation for 50 CFR part 229 continues to read as follows:

Authority: 16 U.S.C. 1361 et seq.; § 229.32(f) also issued under 16 U.S.C. 1531 et seq.

2. In § 229.32, paragraphs (a)(3)(iii), and (a)(6), and (b) are revised to read as follows:

§ 229.32 Atlantic large whale take reduction plan regulations.

* * * * *

(a) * * *

(3) Exempted waters. (i) The regulations in this section do not apply to waters landward of the 72 COLREGS demarcation lines (International Regulations for Preventing Collisions at Sea, 1972), as depicted or noted on nautical charts published by the National Oceanic and Atmospheric Administration (Coast Charts 1:80,000 scale), and as described in 33 CFR part 80 with the exception of the COLREGS lines for Casco Bay (Maine), Portsmouth Harbor (New Hampshire), Gardiners Bay and Long Island Sound (New York), and the state of Massachusetts.

(ii) Other exempted waters.

Maine

The regulations in this section do not apply to waters landward of a line connecting the following points (Quoddy Narrows/US-Canada border to Odiornes Pt., Portsmouth, New Hampshire):

44°49.67′ N. lat., 66°57.77′ W. long. (R N “2”, Quoddy Narrows)

44°48.64′ N. lat., 66°56.43′ W. long. (G “1” Whistle, West Quoddy Head)

44°47.36′ N. lat., 66°59.25′ W. long. (R N “2”, Morton Ledge)

44°45.51′ N. lat., 67°02.87′ W. long. (R “28M” Whistle, Baileys Mistake)

44°37.70′ N. lat., 67°09.75′ W. long. (Obstruction, Southeast of Cutler)

44°27.77′ N. lat., 67°32.86′ W. long. (Freeman Rock, East of Great Wass Island)

44°25.74′ N. lat., 67°38.39′ W. long. (R “2SR” Bell, Seahorse Rock, West of Great Wass Island)

44°21.66′ N. lat., 67°51.78′ W. long. (R N “2”, Petit Manan Island)

44°19.08′ N. lat., 68°02.05′ W. long. (R “2S” Bell, Schoodic Island)

44°13.55′ N. lat., 68°10.71′ W. long. (R “8BI” Whistle, Baker Island)

44°08.36′ N. lat., 68°14.75′ W. long. (Southern Point, Great Duck Island)

43°59.36′ N. lat., 68°37.95′ W. long. (R “2” Bell, Roaring Bull Ledge, Isle Au Haut)

43°59.83′ N. lat., 68°50.06′ W. long. (R “2A” Bell, Old Horse Ledge)

43°56.72′ N. lat., 69°04.89′ W. long. (G “5TB” Bell, Two Bush Channel)

43°50.28′ N. lat., 69°18.86′ W. long. (R “2 OM” Whistle, Old Man Ledge)

43°48.96′ N. lat., 69°31.15′ W. long. (GR C “PL”, Pemaquid Ledge)

43°43.64′ N. lat., 69°37.58′ W. long. (R “2BR” Bell, Bantam Rock)

43°41.44′ N. lat., 69°45.27′ W. long. (R “20ML” Bell, Mile Ledge)

43°36.04′ N. lat., 70°03.98′ W. long. (RG N “BS”, Bulwark Shoal)

43°31.94′ N. lat., 70°08.68′ W. long. (G “1”, East Hue and Cry)

43°27.63′ N. lat., 70°17.48′ W. long. (RW “WI” Whistle, Wood Island)

43°20.23′ N. lat., 70°23.64′ W. long. (RW “CP” Whistle, Cape Porpoise)

43°04.06′ N. lat., 70°36.70′ W. long. (R N “2MR”, Murray Rock)

43°02.93′ N. lat., 70°41.47′ W. long. (R “2KR” Whistle, Kittery Point)

43°02.55′ N. lat., 70°43.33′ W. long. (Odiornes Pt., Portsmouth, New Hampshire)

New Hampshire

New Hampshire state waters are exempt from the minimum number of traps per trawl requirement in paragraph (c)(2)(iii) of this section. Harbor waters landward of the following lines are exempt from all the regulations in this section.

A line from 42°53.691′ N. lat., 70°48.516′ W. long. to 42°53.516′ N. lat., 70°48.748′ W. long. (Hampton Harbor)

A line from 42°59.986′ N. lat., 70°44.654′ W. long. to 42°59.956′ N., 70°44.737′ W. long. (Rye Harbor)

Rhode Island

Rhode Island state waters are exempt from the minimum number of traps per trawl requirement in paragraph (c)(2)(iii) of this section. Harbor waters landward of the following lines are exempt from all the regulations in this section.

A line from 41°22.441′ N. lat., 71°30.781′ W. long. to 41°22.447′ N. lat., 71°30.893′ W. long. (Pt. Judith Pond Inlet)

A line from 41°21.310′ N. lat., 71°38.300′ W. long. to 41°21.300′ N. lat., 71°38.330′ W. long. (Ninigret Pond Inlet)

A line from 41°19.875′ N. lat., 71°43.061′ W. long. to 41°19.879′ N. lat., 71°43.115′ W. long. (Quonochontaug Pond Inlet)

A line from 41°19.660′ N. lat., 71°45.750′ W. long. to 41°19.660′ N. lat., 71°45.780′ W. long. (Weekapaug Pond Inlet)

New York

The regulations in this section do not apply to waters landward of a line that follows the territorial sea baseline through Block Island Sound (Watch Hill Point, RI, to Montauk Point, NY).

Massachusetts

The regulations in this section do not apply to waters landward of the first bridge over any embayment, harbor, or inlet in Massachusetts. The following Massachusetts state waters are exempt from the minimum number of traps per trawl requirement in paragraph (c)(2)(iii) of this section:

Massachusetts state waters in LMA 1 and Outer Cape north and east of Cape Cod from 0-3 miles from shore and including a portion of waters east of the line connecting the following points:

41.925° N, 70.147° W and 41.792° N, 70.319° W

Massachusetts state waters in LMA 2 and Outer Cape south of 41.67°40′ N and west of 70.0°00′ W to the Rhode Island border

South Carolina

The regulations in this section do not apply to waters landward of a line connecting the following points from 32°34.717′ N. lat., 80°08.565′ W. long. to 32°34.686′ N. lat., 80°08.642′ W. long. (Captain Sams Inlet)

* * * * *

(6) Island buffer. Those fishing in waters within ¼ mile of the following Maine islands are exempt from the minimum number of traps per trawl requirement in paragraph (c)(2)(iii) of this section: Monhegan Island, Matinicus Island Group (Metinic Island, Small Green Island, Large Green Island, Seal Island, Wooden Ball Island, Matinicus Island, Ragged Island) and Isle of Shoals Island Group (Duck Island, Appledore Island, Cedar Island, Smuttynose Island).

(b) Gear marking requirements—(1) Specified areas. The following areas are specified for gear marking purposes: Northern Inshore State Trap/Pot Waters, Cape Cod Bay Restricted Area, Massachusetts Restricted Area, Stellwagen Bank/Jeffreys Ledge Restricted Area, Northern Nearshore Trap/Pot Waters Area, Great South Channel Restricted Trap/Pot Area, Great South Channel Restricted Gillnet Area, Great South Channel Sliver Restricted Area, Southern Nearshore Trap/Pot Waters Area, Offshore Trap/Pot Waters Area, Other Northeast Gillnet Waters Area, Mid/South Atlantic Gillnet Waters Area, Other Southeast Gillnet Waters Area, Southeast U.S. Restricted Areas, and Southeast U.S. Monitoring Area.

(i) Jordan Basin. The Jordan Basin Restricted Area is bounded by the following points:

Point | N. Lat. | W. Long.
JBRA1 | 43°15′ | 68°50′
JBRA2 | 43°35′ | 68°20′
JBRA3 | 43°25′ | 68°05′
JBRA4 | 43°05′ | 68°20′
JBRA5 | 43°05′ | 68°35′

(ii) Jeffreys Ledge Restricted Area—The Jeffreys Ledge Restricted Area is bounded by the following points:

Point | N. Lat. | W. Long.
JLRA1 | 43°15′ | 70°25′
JLRA2 | 43°15′ | 70°00′
JLRA3 | 42°50′ | 70°00′
JLRA4 | 42°50′ | 70°25′

(2) Markings. All specified gear in specified areas must be marked with the color code shown in paragraph (b)(3) of this section. The color of the color code must be permanently marked on or along the line or lines specified below under paragraphs (b)(2)(i) and (ii) of this section. Each color mark of the color codes must be clearly visible when the gear is hauled or removed from the water, including if the color of the rope is the same as or similar to the respective color code. The rope must be marked at least three times (top, middle, bottom) and each mark must total 12-inch (30.5 cm) in length. If the mark consists of two colors then each color mark may be 6-inch (15.25 cm) for a total mark of 12-inch (30.5 cm). In marking or affixing the color code, the line may be dyed, painted, or marked with thin colored whipping line, thin colored plastic, or heat-shrink tubing, or other material; or a thin line may be woven into or through the line; or the line may be marked as approved in writing by the Assistant Administrator. A brochure illustrating the techniques for marking gear is available from the Regional Administrator, NMFS, Greater Atlantic Region upon request.

(i) Buoy line markings. All buoy lines must be marked as stated above. Shark gillnet gear in the Southeast U.S. Restricted Area S, Southeast U.S. Monitoring Area and Other Southeast Gillnet Waters, greater than 4 feet (1.22 m) long must be marked within 2 feet (0.6 m) of the top of the buoy line (closest to the surface), midway along the length of the buoy line, and within 2 feet (0.6 m) of the bottom of the buoy line.

(ii) Net panel markings. Shark gillnet gear net panels in the Southeast U.S. Restricted Area S, Southeast U.S. Monitoring Area and Other Southeast Gillnet Waters is required to be marked. The net panel must be marked along both the floatline and the leadline at least once every 100 yards (91.4 m).

(iii) Surface buoy markings. Trap/pot and gillnet gear regulated under this section must mark all surface buoys to identify the vessel or fishery with one of the following: The owner's motorboat registration number, the owner's U.S. vessel documentation number, the federal commercial fishing permit number, or whatever positive identification marking is required by the vessel's home-port state. When marking of surface buoys is not already required by state or federal regulations, the letters and numbers used to mark the gear to identify the vessel or fishery must be at least 1 inch (2.5 cm) in height in block letters or arabic numbers in a color that contrasts with the background color of the buoy. A brochure illustrating the techniques for marking gear is available from the Regional Administrator, NMFS, Greater Atlantic Region upon request.

(3) Color code. Gear must be marked with the appropriate colors to designate gear types and areas as follows:

Color Code Scheme
Plan management area | Color
Trap/Pot Gear
Massachusetts Restricted Area | Red.
Northern Nearshore | Red.
Northern Inshore State | Red.
Stellwagen Bank/Jeffreys Ledge Restricted Area | Red.
Great South Channel Restricted Area overlapping with LMA 2 and/or Outer Cape | Red.
Exempt RI state waters (single traps) | Red and Blue.
Exempt MA state waters in LMA 1 (single traps) | Red and White.
Exempt MA state waters in LMA 2 (single traps) | Red and Black.
Exempt MA state waters in Outer Cape (singles) | Red and Yellow.
Isle of Shoals, ME (single traps) | Red and Orange.
Southern Nearshore | Orange.
Southeast Restricted Area North (State Waters) | Blue and Orange.
Southeast Restricted Area North (Federal Waters) | Green and Orange.
Offshore | Black.
Great South Channel Restricted Area overlapping with LMA 2/3 and/or LMA 3 | Black.
Jordan Basin | Black and Purple (LMA 3); Red and and Purple (LMA 1).
Jeffreys Ledge | Red and Green.
Gillnet Excluding Shark Gillnet
Cape Cod Bay Restricted Area | Green.
Stellwagen Bank/Jeffreys Ledge Restricted Area | Green.
Great South Channel Restricted Area | Green.
Great South Channel Restricted Sliver Area | Green.
Other Northeast Gillnet Waters | Green.
Jordan Basin | Green and Yellow.
Jeffreys Ledge | Green and Black.
Mid/South Atlantic Gillnet Waters | Blue.
Southeast US Restricted Area South | Yellow.
Other Southeast Gillnet Waters | Yellow.
Shark Gillnet (With Webbing of 5″ or Greater)
Southeast US Restricted Area South | Green and Blue.
Southeast Monitoring Area | Green and Blue.
Other Southeast Waters | Green and Blue.

* * * * *

(c) * * *

(2) Area specific gear requirements. Trap/pot gear must be set according to the requirements outlined below and in the table in paragraph(c)(2)(iii) of this section.

(i) Single traps and multiple-trap trawls. All traps must be set according to the configuration outlined in the Table (c)(2)(iii) of this section. Trawls up to and including 5 or fewer traps must only have one buoy line unless specified otherwise in Table (c)(2)(iii) of this section.

(ii) Buoy line weak links. All buoys, flotation devices and/or weights (except traps/pots, anchors, and leadline woven into the buoy line), such as surface buoys, high flyers, sub-surface buoys, toggles, window weights, etc., must be attached to the buoy line with a weak link placed as close to each individual buoy, flotation device and/or weight as operationally feasible and that meets the following specifications:

(A) The breaking strength of the weak links must not exceed the breaking strength listed in paragraph (c)(2)(iii) of this section for a specified management area.

(B) The weak link must be chosen from the following list approved by NMFS: Swivels, plastic weak links, rope of appropriate breaking strength, hog rings, rope stapled to a buoy stick, or other materials or devices approved in writing by the Assistant Administrator. A brochure illustrating the techniques for making weak links is available from the Regional Administrator, NMFS, Greater Atlantic Region upon request.

(C) Weak links must break cleanly leaving behind the bitter end of the line. The bitter end of the line must be free of any knots when the weak link breaks. Splices are not considered to be knots for the purposes of this provision.

(iii)—Table of Area Specific Gear Requirements
Location | Management area | Minimum number traps/trawl | Weak link strength
ME State and Pocket Waters¹ | Northern Inshore State | 2 (1 endline) | ≤600 lbs.
ME Zones A-G (3-6 miles) ⁱ | Northern Nearshore | 3 (1 endline) | ≤600 lbs.
ME Zones A-C (6-12 miles) ¹ | Northern Nearshore | 5 (1 endline) | ≤600 lbs.
ME Zones D-G (6-12 miles) ¹ | Northern Nearshore | 10 | ≤600 lbs.
ME Zones A-E (12+ miles) | Northern Nearshore and Offshore | 15 | ≤600 lbs (≤1500 lbs in offshore, 2,000 lbs if red crab trap/pot).
ME Zones F-G (12+ miles) | Northern Nearshore and Offshore | 15 (Mar 1-Oct 31) 20 (Nov 1-Feb 28/29) | ≤600 lbs (≤1500 lbs in offshore, 2,000 lbs if red crab trap/pot).
MA State Waters ⁱⁱ | Northern Inshore State and Massachusetts Restricted Area | No minimum number of traps per trawl. Trawls up to and including 3 or fewer traps must only have one buoy line | ≤600 lbs.
Other MA State Waters | Northern Inshore State and Massachusetts Restricted Area | 2 (1 endline) Trawls up to and including 3 or fewer traps must only have one buoy line | ≤600 lbs.
NH State Waters | Northern Inshore State | No minimum trap/trawl | ≤600 lbs.
LMA 1 (3-12 miles) | Northern Nearshore and Massachusetts Restricted Area and Stellwagen Bank/Jeffreys Ledge Restricted Area | 10 | ≤600 lbs.
LMA 1 (12+ miles) | Northern Nearshore | 20 | ≤600 lbs.
LMA1/OC Overlap (0-3 miles) | Northern Inshore State and Massachusetts Restricted Area | No minimum number of traps per trawl | ≤600 lbs.
OC (0-3 miles) | Northern Inshore State and Massachusetts Restricted Area | No minimum number of traps per trawl | ≤600 lbs.
OC (3-12 miles) | Northern Nearshore and Massachusetts Restricted Area | 10 | ≤600 lbs.
OC (12+ miles) | Northern Nearshore and Great South Channel Restricted Area | 20 | ≤600 lbs.
RI State Waters | Northern Inshore State | No minimum number of traps per trawl. | ≤600 lbs.
LMA 2 (3-12 miles) | Northern Nearshore | 10 | ≤600 lbs.
LMA 2 (12 + miles) | Northern Nearshore and Great South Channel Restricted Area | 20 | ≤600 lbs.
LMA 2/3 Overlap (12+ miles) | Offshore and Great South Channel Restricted Area | 20 | ≤1500 lbs (2,000 lbs if red crab trap/pot).
LMA 3 (12+ miles) | Offshore waters North of 40° and Great South Channel Restricted Area | 20 | ≤1500 lbs (2,000 lbs if red crab trap/pot).
LMA 4,5,6 | Southern Nearshore |  | ≤600 lbs.
FL State Waters | Southeast US Restricted Area North ⁱⁱⁱ | 1 | ≤200 lbs.
GA State Waters | Southeast US Restricted Area North ³ | 1 | ≤600 lbs.
SC State Waters | Southeast US Restricted Area North ³ | 1 | ≤600 lbs.
Federal Waters off FL, GA, SC | Southeast US Restricted Area North ³ | 1 | ≤600 lbs.
¹ The pocket waters and 6-mile line as defined in paragraphs (a)(2)(ii)-(a)(2)(iii) of this section.
² MA State waters as defined in paragraphs (a)(3)(iii) of this section.
³ See § 229.32 (f)(1) for description of area.

* * * * *

[FR Doc. 2015-06272 Filed 3-18-15; 8:45 am]

BILLING CODE 3510-22-P